DEPARTMENT OF ENERGY

Federal Energy Regulatory Commission

[Project No. 14355-001]

John B. Crockett; Notice of Intent To File License Application, Filing of Pre-Application Document, and Approving Use of the Traditional Licensing Process

a. Type of Filing: Notice of Intent to File License Application and Request to Use the Traditional Licensing Process.

b. Project No.: 14355-001.

c. Dated Filed: September 4, 2012.

d. Submitted By: John B. Crockett.

e. Name of Project: East Fork Ditch Hydropower Project.

f. Location: On the existing East Fork Ditch canal system, fed by the East Fork Weiser River, in Adams County, Idaho. The project would occupy approximately 16 acres of land, partly on United States lands administered by the U.S. Forest Service.

g. Filed Pursuant to: 18 CFR 5.3 of the Commission's regulations.

h. Potential Applicant Contact: John B. Crockett, 3296 Snowflake Way, Boise, ID 83706; (208) 344-5319; email—johncrockett@cableone.net.

i. FERC Contact: Ken Wilcox at (202) 502-6835; or email at ken.wilcox@ferc.gov.

j. John B. Crockett filed a request to use the Traditional Licensing Process on September 4, 2012. Mr. Crockett provided public notice of his request on September 14, 2012. In a letter dated October 5, 2012, the Director of the Division of Hydropower Licensing approved Mr. Crockett's request to use the Traditional Licensing Process.

k. With this notice, we are initiating informal consultation with: (a) The U.S. Fish and Wildlife Service under section 7 of the Endangered Species Act and the joint agency regulations thereunder at 50 CFR Part 402; and (b) the Idaho State Historic Preservation Officer, as required by section 106, National Historical Preservation Act, and the implementing regulations of the Advisory Council on Historic Preservation at 36 CFR 800.2.

l. John B. Crockett filed a Pre-Application Document (PAD) including a proposed process plan and schedule with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: October 5, 2012.
Kimberly D. Bose,
Secretary.

[FR Doc. 2012-25210 Filed 10-12-12; 8:45 am]

BILLING CODE 6717-01-P